ENVIRONMENTAL PROTECTION AGENCY

40 CFR Parts 9, 157, 372, and 720

[OPPTS-00265; FRL-6067-7]

OMB Approvals Under the Paperwork Reduction Act; Technical Amendment

AGENCY: Environmental Protection Agency.

ACTION: Final rule.

SUMMARY: This document updates EPA's table of OMB control numbers. These OMB control numbers are issued by the Office of Management Budget (OMB) under the Paperwork Reduction Act (PRA) for regulations containing information collection requirements. This technical amendment adds new approvals published in the Federal Register since July 1, 1998, removes expired and terminated approvals, and makes other necessary corrections to the table.

DATES: This rule is effective June 26, 2000, except § § 372.27 and 372.95. The effective date for § § 372.27 and 372.95 is March 17, 1995.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Patricia Johnson, Regulatory Coordination Staff (7101), Office of Prevention, Pesticides and Toxic Substances, Environmental Protection Agency, 1200 Pennsylvania Ave., NW., Washington, DC 20460; telephone number: (202) 260-2893; e-mail address: johnson.patriciaa@epa.gov.

SUPPLEMENTARY INFORMATION:

I. General Information

A. Does this Action Apply to Me?

This action is directed to the public in general. This action may, however, be of interest to those persons who are concerned about OMB approval for information collection required by EPA regulations. Since other entities may also be interested, the Agency has not attempted to describe all the specific entities that may be affected by this action. If you have any questions regarding the applicability of this action to a particular entity, consult the technical person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPPTS-00265. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall, Rm. B-607, Waterside Mall, 401 M St., SW., Washington, DC. The Center is open from noon to 4 p.m., Monday through Friday, excluding legal holidays. The telephone number for the Center is (202) 260-7099.

II. Background

A. Why is this Technical Amendment Being Issued?

This document updates the OMB control numbers listed in 40 CFR part 9 for various actions published in the Federal Register, since July 1, 1998, and issued under the Toxic Substances Control Act (TSCA) (15 U.S.C. 2601) and the Federal Insecticide, Fungicide, and Rodenticide Act (FIFRA) (7 U.S.C. 136 et seq.). EPA will continue to present OMB control numbers in a consolidated table format in 40 CFR part 9 of the Agency's regulations. The table lists Code of Federal Regulations (CFR) citations with reporting, recordkeeping, or other information collection requirements that require OMB approval under the PRA (44 U.S.C. 3501 et seq.), and the current OMB control numbers. This listing of the OMB control numbers and their subsequent codification in the CFR satisfies the requirements of the PRA and OMB's implementing regulations at 5 CFR part 1320.

B. Why is this Technical Amendment Issued as a Final Rule?

Under PRA, the information collection requirements included in this document were previously subject to public notice and comment prior to OMB approval, either as part of the OMB approval process or as part of a rulemaking. Therefore, EPA finds that publication of a proposed rule is unnecessary and would waste public tax dollars. This technical amendment is effective upon publication under the “good cause” clause found in section 553(b)(3)(B) of the Administrative Procedure Act (APA) (5 U.S.C. 553(b)(3)(B) which allows a regulatory action to become final without prior notice and comment.

C. What Corrections does this Document Make?

1. The OMB approval numbers being added to the table in 40 CFR 9.1 are related to approved information collection activities contained in the following final rules:

Substituted Phenol; Significant New Use Rule; Final Rule (63 FR 23678, April 30, 1998) (FRL-5782-5). OMB most recently approved this ongoing collection under control number 2070-0012 on February 19, 1997 (EPA ICR No. 574.10) (see 62 FR 10057, March 5, 1997) (FRL-5699-4).

Lead; Requirements for Hazard Education Before Renovation of Target Housing; Final Rule (63 FR 29907, June 1, 1998) (FRL-5751-7). Approved by OMB under control number 2070-0158 on September 1, 1998 (EPA ICR No. 1669.02) (see 63 FR 57677, October 28, 1998) (FRL-6180-8).

Significant New Uses of Certain Chemical Substances; Final Rule (63 FR 44562, August 20, 1998) (FRL-5788-7). OMB most recently approved this ongoing collection under control number 2070-0012 on February 19, 1997 (EPA ICR No. 574.10 (see 62 FR 10057, March 5, 1997) (FRL-5699-4).

Significant New Uses of Certain Chemical Substances; Final Rule (63 FR 65705, November 30, 1998) (FRL-6033-6). OMB most recently approved this ongoing collection under control number 2070-0012 on February 19, 1997 (EPA ICR No. 574.10 (see 62 FR 10057, March 5, 1997) (FRL-5699-4).

Significant New Uses of Certain Chemical Substances; Direct Final Rule (65 FR 345, January 5, 2000) (FRL-6055-2). OMB most recently approved this ongoing collection under control number 2070-0012 on February 19, 1997 (EPA ICR No. 574.10 (see 62 FR 10057, March 5, 1997) (FRL-5699-4).

2. Several entries on the table in 40 CFR 9.1 are being removed, either because the collection activity has been eliminated, the OMB approval has expired, or the entry is incorrect. The following actions are related to some of the listed removals:

Certain Chemical Substances; Removal of Significant New Use Rule; Final Rule (63 FR 48127, September 9, 1998) (FRL-6020-7).

Revocation of Significant New Use Rules for Certain Chemical Substances; Final Rule (63 FR 64874, November 24, 1998) (FRL-6044-6).

3. The requested deletion of the effective date notes and the parentheticals are necessary technical corrections. The Agency no longer uses a parenthetical to display the OMB approval status for regulations. These approvals are properly listed in 40 CFR 9.1. The effective note is no longer applicable, because OMB approved the information collection contained in the final rule that established § § 372.27 and 372.95 (59 FR 61502, November 30, 1994) on March 17, 1995 (EPA ICR No. 1704.02) (see 60 FR 24631, May 9, 1995) (FRL-5204-7), and OMB has approved the renewal of this ongoing collection twice since, with the current approval on February 2, 1999 (EPA ICR No. 1704.04) (See 64 FR 12316, March 12, 1999) (FRL-0239/7).

III. Regulatory Assessment Requirements

This final rule implements a technical correction to the CFR, and does not impose any new requirements.

Under Executive Order 12866, entitled Regulatory Planning and Review (58 FR 51735, October 4, 1993), OMB has determined that a technical correction is not a “significant regulatory action” subject to review by OMB.

Because this action is not economically significant as defined by section 3(f) of Executive Order 12866, this action is not subject to Executive Order 13045, entitled Protection of Children from Environmental Health Risks and Safety Risks (62 FR 19885, April 23, 1997).

This action will not result in environmental justice related issues and does not therefore, require special consideration under Executive Order 12898, entitled Federal Actions to Address Environmental Justice in Minority Populations and Low-Income Populations (59 FR 7629, February 16, 1994).

Since the Agency has made a “good cause” finding that this action is not subject to notice-and-comment requirements under the APA or any other statute (see Unit II.B.), this action is not subject to the regulatory flexibility provisions of the Regulatory Flexibility Act (RFA) (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. Nor does this action significantly or uniquely affect the communities of tribal governments as specified by Executive Order 13084, entitled Consultation and Coordination with Indian Tribal Governments (63 FR 27655, May 10, 1998). This rule will not have substantial direct effects on the States, on the relationship between the national government and the States, or on the distribution of power and responsibilities among the various levels of government, as specified in Executive Order 13132, entitled Federalism (64 FR 43255, August 10, 1999).

This action does not involve any technical standards that require the Agency's consideration of voluntary consensus standards pursuant to section 12(d) of the National Technology Transfer and Advancement Act of 1995 (NTTAA), Public Law 104-113, section 12(d) (15 U.S.C. 272 note).

This rule does not contain any information collection requirements that require review and approval by OMB pursuant to the PRA. The collection activities associated with the OMB control number contained in this technical correction have already been approved by OMB.

In issuing this rule, EPA has taken the necessary steps to eliminate drafting errors and ambiguity, minimize potential litigation, and provide a clear legal standard for affected conduct, as required by section 3 of Executive Order 12988, entitled Civil Justice Reform (61 FR 4729, February 7, 1996).

EPA has complied with Executive Order 12630, entitled Governmental Actions and Interference with Constitutionally Protected Property Rights (53 FR 8859, March 15, 1988), by examining the takings implications of this rule in accordance with the “Attorney General's Supplemental Guidelines for the Evaluation of Risk and Avoidance of Unanticipated Takings” issued under the Executive Order.

IV. Submission to Congress and the Comptroller General

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. CRA section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefore, and established an effective date of June 26, 2000. EPA will submit a report containing this rule and other required information to the U.S. Senate, the U.S. House of Representatives, and the Comptroller General of the United States prior to publication of this rule in the Federal Register. This rule is not a “major rule” as defined by 5 U.S.C. 804(2).

List of Subjects in 40 CFR Parts 9, 157, 372, and 720

Environmental protection, Reporting and recordkeeping requirements.

Dated: June 16, 2000.
Susan H. Wayland,
Acting Assistant Administrator for Prevention, Pesticides and Toxic Substances.

Therefore, 40 CFR chapter I is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended as follows:

a. By removing the entry “Part 372” and by removing § § 721.658, 721.723, 721.1525, 721.1737, 721.1740, 721.3180, 721.5725, 721.7360, 721.8654, 761.93, 761.93(a)(1)(iii), 761.93(b), and Part 763, subpart I.

b. By removing “2010-0019,” in § § 704.5 and 704.11 and Part 792.

c. By adding the entries listed below under the headings indicated.

The table as amended reads as follows:

§ 9.1 OMB approvals under the Paperwork Reduction Act.

* * * * *

40 CFR citation | OMB control No.
* * * * *
Significant New Uses of Chemical Substances
* * * * *
721.305 | 2070-0012
* * * * *
721.324 | 2070-0012
721.329 | 2070-0012
* * * * *
721.435 | 2070-0012
* * * * *
721.450 | 2070-0012
* * * * *
721.526 | 2070-0012
721.528 | 2070-0012
* * * * *
721.555 | 2070-0012
721.558 | 2070-0012
* * * * *
721.567 | 2070-0012
* * * * *
721.630 | 2070-0012
721.637 | 2070-0012
* * * * *
721.644 | 2070-0012
* * * * *
721.987 | 2070-0012
721.988 | 2070-0012
* * * * *
721.1055 | 2070-0012
* * * * *
721.1576 | 2070-0012
721.1577 | 2070-0012
721.1578 | 2070-0012
721.1579 | 2070-0012
721.1580 | 2070-0012
* * * * *
721.1655 | 2070-0012
* * * * *
721.1710 | 2070-0012
* * * * *
721.1729 | 2070-0012
721.1730 | 2070-0012
721.1731 | 2070-0012
* * * * *
721.1734 | 2070-0012
* * * * *
721.2077 | 2070-0012
721.2078 | 2070-0012
721.2079 | 2070-0012
721.2081 | 2070-0012
721.2082 | 2070-0012
721.2083 | 2070-0012
* * * * *
721.2087 | 2070-0012
* * * * *
721.2385 | 2070-0012
* * * * *
721.2480 | 2070-0012
721.2485 | 2070-0012
* * * * *
721.2532 | 2070-0012
* * * * *
721.2570 | 2070-0012
* * * * *
721.2580 | 2070-0012
721.2585 | 2070-0012
* * * * *
721.2755 | 2070-0012
* * * * *
721.3025 | 2070-0012
721.3031 | 2070-0012
721.3032 | 2070-0012
* * * * *
721.3310 | 2070-0012
* * * * *
721.3635 | 2070-0012
* * * * *
721.3845 | 2070-0012
* * * * *
721.4097 | 2070-0012
721.4098 | 2070-0012
* * * * *
721.4105 | 2070-0012
721.4106 | 2070-0012
721.4107 | 2070-0012
721.4108 | 2070-0012
* * * * *
721.4265 | 2070-0012
* * * * *
721.4385 | 2070-0012
* * * * *
721.4472 | 2070-0012
* * * * *
721.5185 | 2070-0012
* * * * *
721.5290 | 2070-0012
* * * * *
721.5356 | 2070-0012
721.5360 | 2070-0012
* * * * *
721.5380 | 2070-0012
* * * * *
721.5460 | 2070-0012
721.5465 | 2070-0012
* * * * *
721.5548 | 2070-0012
* * * * *
721.5580 | 2070-0012
* * * * *
721.5775 | 2070-0012
* * * * *
721.5867 | 2070-0012
* * * * *
721.5965 | 2070-0012
* * * * *
721.6175 | 2070-0012
721.6176 | 2070-0012
* * * * *
721.6197 | 2070-0012
* * * * *
721.6498 | 2070-0012
* * * * *
721.7285 | 2070-0012
721.7286 | 2070-0038
* * * * *
721.7785 | 2070-0012
* * * * *
721.8153 | 2070-0012
* * * * *
721.8660 | 2070-0012
* * * * *
721.9490 | 2070-0012
* * * * *
721.9508 | 2070-0012
721.9509 | 2070-0012
721.9513 | 2070-0012
* * * * *
721.9516 | 2070-0012
721.9517 | 2070-0012
* * * * *
721.9573 | 2070-0012
* * * * *
721.9595 | 2070-0012
* * * * *
721.9661 | 2070-0012
* * * * *
721.9663 | 2070-0012
* * * * *
721.9672 | 2070-0012
* * * * *
721.9685 | 2070-0012
* * * * *
721.9719 | 2070-0012
* * * * *
721.9785 | 2070-0012
721.9790 | 2070-0012
721.9795 | 2070-0012
721.9798 | 2070-0012
* * * * *
721.9810 | 2070-0012
* * * * *
721.9965 | 2070-0012
721.9969 | 2070-0012
* * * * *
721.9973 | 2070-0012
* * * * *
Lead-Based Paint Poisoning Prevention in Certain Residential Structures
Part 745, subpart E | 2070-0158
* * * * *

* * * * *

PART 157—[AMENDED]

1. The authority citation for part 157 continues to read as follows:

Authority: 7 U.S.C. 136w.

2. Remove at the end of § 157.36 the parenthetical phrase containing the OMB control number.

PART 372—[AMENDED]

1. The authority citation for part 372 continues to read as follows:

Authority: 42 U.S.C. 11023 and 11048.

2. The effective date for § § 372.27 and 372.95 is March 17, 1995.

PART 720—[AMENDED]

1. The authority citation for part 720 continues to read as follows:

Authority: 15 U.S.C. 2604, 2607, and 2613.

2. Remove at the end of § 720.102 the parenthetical phrase containing the OMB control number.

[FR Doc. 00-16076 Filed 6-23-00; 8:45 am]

BILLING CODE 6560-50-F